DEPARTMENT OF LABOR

Mine Safety and Health Administration

30 CFR Part 7

RIN 1219-AB43

Equivalency Evaluation of the U.S. Environmental Protection Agency's Nonroad Diesel Engine Standards

AGENCY: Mine Safety and Health Administration (MSHA), Labor.

ACTION: Notice of intent.

SUMMARY: We intend to review the U.S. Environmental Protection Agency's (EPA) standards for nonroad diesel engines to determine if certain EPA requirements in 40 CFR part 89, Control of Emissions From New and In-Use Nonroad Compression-Ignition Engines, provide, or can be modified to provide, at least the same degree of protection as our existing applicable requirements in 30 CFR part 7, subpart E—Diesel Engines Intended for Use in Underground Coal Mines. This review is limited to the testing of Category B diesel engines as defined in 30 CFR 7.82, Definitions.

DATES: Comments must be received by May 30, 2006.

ADDRESSES: Comments must be clearly identified as such and transmitted electronically to equivalencycomment@dol.gov. Alternatively, comments can be submitted by using the Federal eRulemaking portal http://www.regulations.gov and following the instructions. Persons unable to file comments electronically should submit their comments to us by regular mail or hand delivery to MSHA, Approval and Certification Center, Attention: John P. Faini, Box 251, Industrial Park Road, Triadelphia, West Virginia 26059 or transmit by facsimile to (304) 547-2071. Please specify RIN 1219-AB43 on documents sent in response to this notice. You may contact us with any format questions. Comments are posted for public viewing at http://www.msha.gov/currentcomments.asp.

FOR FURTHER INFORMATION CONTACT: John P. Faini, Mechanical and Engineering Safety Division, Approval and Certification Center, MSHA; phone: (304) 547-2042; facsimile: (304) 547-2084; E-mail: faini.john@dol.gov. We maintain a listserve on our Web site that enables subscribers to receive e-mail notification when we publish rulemaking documents in the Federal Register. To subscribe to the listserve, visit our site at http://www.msha.gov/subscriptions/subscribe.aspx.

SUPPLEMENTARY INFORMATION:

Background

On June 17, 2003 we published a final rule, Testing and Evaluation by Independent Laboratories and Non-MSHA Product Safety Standards (68 FR 36417). The final rule allows manufacturers to test their products in accordance with non-MSHA standards if we determine that the non-MSHA standard is equivalent to our applicable product approval requirements or can be modified to provide at least the same level of protection.

Part 7 of 30 CFR specifies requirements for our approval of applicant or third party testing and evaluation of equipment and materials for use in underground mines that do not involve subjective testing. Paragraph 7.10(b) requires us to publish our intent to review any non-MSHA product safety standard for equivalency in the Federal Register for the purpose of soliciting public input. In addition, paragraph 7.10(c) requires us to list our equivalency determinations in 30 CFR part 7.

EPA is a Federal agency that regulates both the gaseous and diesel particulate matter emissions from nonroad diesel engines sold in the United States. The EPA standards in 40 CFR part 89, Control of Emissions from New and In-Use Nonroad Compression-Ignition Engines, establish laboratory testing procedures and application requirements for nonroad engines. Diesel engine manufacturers are redesigning their engines to meet new EPA emission standards. Manufacturers must apply for our approval for each new engine design if they are to be used in underground coal mines. Manufacturers would benefit if they were able to streamline engine testing so they could solicit approval from us as well as EPA using the same set of results.

We are asking for public input concerning our intent to review certain EPA Nonroad Diesel Engine standards published under part 89, Title 40, CFR to determine whether these standards provide, or could be modified to provide, at least the same degree of protection as our existing applicable requirements. We intend to limit our review to the following EPA standards:

• 89.2, Definitions,

• 89.6, Reference materials,

• 89.115, Application for certificate,

• 89.119, Emission tests,

• Subpart D, Emission Test Equipment Provisions,

• Appendix A, to Subpart D,

• Appendix B, to Subpart D, and

• Subpart E, Exhaust Emission Test Procedures.

We intend to review these specific EPA standards to determine whether the EPA requirements provide adequate testing procedures and technical information needed for the issuance of our approval under part 7, subpart E. The requirements in our part 7 apply to certain equipment and materials whose product testing and evaluation does not involve subjective analysis. We have reviewed the applicable EPA requirements and have determined that they do not involve subjective analysis.

If we determine the specified sections of 40 CFR part 89 would provide at least the same degree of protection in their original form or could be modified to demonstrate equivalency to 30 CFR part 7, subpart E, Category B diesel engines, then we would amend 30 CFR part 7 accordingly. If modifications are required, they would also be specified in our part 7.

We welcome comments on whether the EPA requirements provide testing procedures and technical information equivalent to the approval requirements set out in part 7 subpart E. If you feel the specified sections of 40 CFR part 89 do not provide the same degree of protection in their original form, but could be modified to do so, specify what modifications are necessary to demonstrate equivalency. After the comment period closes, we will perform an evaluation of the EPA standards. At the conclusion of the evaluation, we will publish our determination in the Federal Register accompanied by a summary of the findings and a list of required modifications, if necessary.

Dated: March 20, 2006.
David G. Dye,
Acting Assistant Secretary for Mine Safety and Health.

[FR Doc. E6-4362 Filed 3-27-06; 8:45 am]

BILLING CODE 4510-43-P